NATIONAL FOUNDATION ON THE ARTS AND THE HUMANITIES

National Endowment for the Arts; Arts Advisory Panel

Pursuant to Section 10(a)(2) of the Federal Advisory Committee Act (Public Law 92-463), as amended, notice is hereby given that six meetings of the Arts Advisory Panel to the National Council on the Arts will be held at the Nancy Hanks Center, 1100 Pennsylvania Avenue, NW., Washington, DC, 20506 as follows (ending times are approximate):

Dance (application review): December 4-6, 2006 in Room 730. This meeting, from 9 a.m. to 6 p.m. on December 4th and 5th, and from 9 a.m. to 4:30 p.m. on December 6th, will be closed.

Folk & Traditional Arts (application review): December 6-8, 2006 in Room 716. This meeting, from 9 a.m. to 6:30 p.m. on December 6th, from 9 a.m. to 6 p.m. on December 7th, and from 9 a.m. to 5:30 p.m. on December 8th, will be closed.

Music (application review): December 6-8, 2006 in Room 714. A portion of this meeting, from 2 p.m. to 3 p.m. on December 8th, will be open to the public for a policy discussion. The remainder of the meeting, from 9 a.m. to 5:30 p.m. on December 6th, from 9 a.m. to 6 p.m. on December 7th, and from 9 a.m. to 2 p.m. and from 3 p.m. to 3:30 p.m. on December 8th, will be closed.

Museums (application review): December 12-15, 2006 in Room 716. This meeting, from 9 a.m. to 5:30 p.m. on December 12th—14th and from 9 a.m. to 1 p.m. on December 15th, will be closed.

Literature (application review): December 13-15, 2006 in Room 714. A portion of this meeting, from 2 p.m. to 3 p.m. on December 15th, will be open to the public for a policy discussion. The remainder of the meeting, from 9 a.m. to 6 p.m. on December 13th and 14th and from 9 a.m. to 2 p.m. and from 3 p.m. to 4:30 p.m. on December 15th, will be closed.

Summer Schools in the Arts (application review): December 14-15, 2006 in Room 730. A portion of this meeting, from 3:15 p.m. to 3:45 p.m. on December 15th, will be open to the public for a policy discussion. The remainder of the meeting, from 9 a.m. to 6 p.m. on December 14th and from 9 a.m. to 3:15 p.m. and from 3:45 p.m. to 4:15 p.m. on December 15th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW, Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

November 13, 2006.
Kathy Plowitz-Worden,
Panel Coordinator, Panel Operations, National Endowment for the Arts.

[FR Doc. E6-19410 Filed 11-16-06; 8:45 am]

BILLING CODE 7537-01-P